DEPARTMENT OF EDUCATION

[Docket No.: ED-2016-ICCD-0061]

Agency Information Collection Activities; Submission to the Office of Management and Budget for Review and Approval; Comment Request; 2018 Teaching and Learning International Survey (TALIS 2018) Main Study Recruitment and Field Test

AGENCY: National Center for Education Statistics (NCES), Department of Education (ED).

ACTION: Notice.

SUMMARY: In accordance with the Paperwork Reduction Act of 1995 (44 U.S.C. chapter 3501 et seq.), ED is proposing a reinstatement of a previously approved information collection.

DATES: Interested persons are invited to submit comments on or before August 26, 2016.

ADDRESSES: To access and review all the documents related to the information collection listed in this notice, please use http://www.regulations.gov by searching the Docket ID number ED-2016-ICCD-0061. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-343, Washington, DC 20202-4537.

FOR FURTHER INFORMATION CONTACT: For specific questions related to collection activities, please contact NCES Information Collections at NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2018 Teaching and Learning International Survey (TALIS 2018) Main Study Recruitment and Field Test.

OMB Control Number: 1850-0888.

Type of Review: A reinstatement of a previously approved information collection.

Respondents/Affected Public: Individuals.

Total Estimated Number of Annual Responses: 1,228.

Total Estimated Number of Annual Burden Hours: 1,949.

Abstract: The Teaching and Learning International Survey (TALIS) is an international survey of teachers and principals that focuses on the working conditions of teachers and the teaching and learning practices in schools. TALIS was first administered in 2008 and is conducted every five years. Having participated in 2013 but not in 2008, the United States will administer TALIS for the second time in 2018. TALIS is sponsored by the Organization for Economic Cooperation and Development (OECD). In the United States, TALIS is conducted by the National Center for Education Statistics (NCES), of the Institute of Education Sciences within the U.S. Department of Education. TALIS 2018 will address teacher training and professional development, teachers' appraisal, school climate, school leadership, teachers' instructional approaches, and teachers' pedagogical practices. In February 2017, TALIS 2018 field test will be conducted to evaluate newly developed teacher and school questionnaire items and test the survey operations. This request is for recruitment and pre-survey activities for the 2017 field test sample, administration of the field test, and recruitment of schools for the 2018 main study sample.

Dated: July 22, 2016.
Stephanie Valentine,
Acting Director, Information Collection Clearance Division, Office of the Chief Privacy Officer, Office of Management.

[FR Doc. 2016-17771 Filed 7-26-16; 8:45 am]

BILLING CODE 4000-01-P